DEPARTMENT OF HEALTH AND HUMAN SERVICES

[Document Identifier: OS-0990-New; 30-Day Notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: An Assessment of the Sustainability and Impact of Community Coalitions Once Federal Funding Has Expired—OMB No. 0990-NEW—Assistant Secretary Planning Evaluation (ASPE).

Abstract: The Office of the Assistant Secretary for Planning and Evaluation (ASPE) is requesting Office of Management and Budget (OMB) approval on a new collection to conduct a survey of community coalitions formerly funded by the Community Access Program (CAP)/Healthy Communities Access Program (HCAP) to learn about their sustainability and impact post-federal funding. ASPE will use the CAP/HCAP experience to examine the long-term sustainability of coalitions that successfully completed for grant funding from the Department of Health and Human Services (DHHS). As part of the study, a one-time, self-administered survey will be administered to the 260 coalitions funded through CAP/HCAP, providing a unique set of data to assess coalition sustainability and the factors that enable and hinder sustainability. The survey will focus on CAP/HCAP coalitions' structure, funding, activities, impact, and outcomes post-funding. The survey design and content is informed by a review of the literature on community coalitions including coalition organization, functions, impact, and sustainability. Results from the survey will also inform the selection of sites for key informant interviews and site visits. Specifically, telephone interviews will occur with a subset of 20 CAP/HCAP coalitions that have been sustained as well as 20 CAP/HCAP coalitions that have not been sustained. The key informant interviews will utilize a structured instrument tailored to the coalitions' experiences. Site visits will be conducted with seven coalitions that were sustained post-funding. Data collection activities will be completed within 18 months of OMB Clearance.

Estimated Annualized Burden Table
Type of respondent | Number of respondents | Number of responses per respondent | Average burden hours per response | Total burden hours
Social and Community Service Managers/survey | 260 | 1 | 35/60 | 152
Social and Community Service Managers/key informant interviews | 40 | 1 | 45/60 | 30
Total |  |  |  | 182

Seleda Perryman,
Office of the Secretary, Paperwork Reduction Act Reports Clearance Officer.

[FR Doc. 2010-25585 Filed 10-8-10; 8:45 am]

BILLING CODE 4150-05-P